COMMISSION ON CIVIL RIGHTS

Amended Notice of Public Meeting of the Wyoming Advisory Committee

Notice is hereby given, pursuant to the provisions of the rules and regulations of the U.S. Commission on Civil Rights, that a meeting of the Wyoming Advisory Committee to the Commission which was to have convened on Monday, September 18, 2000 and Tuesday, September 19, 2000, has been rescheduled. A meeting of the Committee will convene 9 a.m. and adjourn at 10 p.m. on Thursday, September 21, 2000, at the Holiday Inn Express, 1700 E. Valley Road, Torrington, Wyoming, 82240. The Committee will hold a planning and pre-briefing meeting for the community forum in the morning. The community forum/workshops will begin at 12 p.m.

The original notice for the meeting was announced in the Federal Register on Tuesday, August 22, 2000, FR Doc. 00-21337, Vol. 65, No. 163, p. 50954.

Persons desiring additional information should contact John Dulles, Director of the Rocky Mountain Regional Office, 303-866-1040 (TDD 303-866-1049).

Dated at Washington, DC, August 25, 2000.
Lisa M. Kelly,
Special Assistant to the Staff Director,, Regional Programs Coordination Unit.

[FR Doc. 00-22503 Filed 8-29-00; 2:17 pm]

BILLING CODE 6335-01-P